DEPARTMENT OF THE TREASURY

Agency Information Collection Activities; Emergency Submission for OMB Review; Comment Request; Homeowner Assistance Fund Compliance Reporting

AGENCY: Departmental Offices, Department of the Treasury.

ACTION: Notice.

SUMMARY: The Department of the Treasury has submitted the following information collection request to the Office of Management and Budget (OMB) for review and clearance utilizing emergency review procedures in accordance with the Paperwork Reduction Act of 1995. Emergency review and approval of this collection has been requested from OMB by April 12, 2022. The public is invited to submit comments on this request.

DATES: Written comments must be received on or before April 14, 2022.

ADDRESSES: Send comments regarding the burden estimate, or any other aspect of the information collection, including suggestions for reducing the burden, by the following method:

• Federal E-rulemaking Portal: http://www.regulations.gov. Follow the instructions for submitting comments. Refer to Docket Number TREAS-DO-2022-0008 and the specific Office of Management and Budget (OMB) control number 1505-0269.

FOR FURTHER INFORMATION CONTACT: Copies of the submissions may be obtained from Christopher Sun by emailing HAF@treasury.gov, calling 877-398-5861, or viewing the entire information collection request at www.reginfo.gov.

SUPPLEMENTARY INFORMATION: Title: Homeowner Assistance Fund.

OMB Control Number: 1505-0269.

Type of Review: Revision of a currently approved collection.

Description: On March 11, 2021, the President signed the American Rescue Plan Act of 2021 (the “Act”), Public Law 117-2. Title III, subtitle B, section 3206 of the Act established the Homeowner Assistance Fund and provides $9.961 billion for the U.S. Department of the Treasury (Treasury) to make payments to States (defined to include the District of Columbia, Puerto Rico, U.S. Virgin Islands, Guam, Northern Mariana Islands, and American Samoa), Indian tribes or Tribally Designated Housing Entities, as applicable, and the Department of Hawaiian Home Lands (collectively the “eligible entities”) to mitigate financial hardships associated with the coronavirus pandemic, including for the purposes of preventing homeowner mortgage delinquencies, defaults, foreclosures, loss of utilities or home energy services, and displacements of homeowners experiencing financial hardship after January 21, 2020, through qualified expenses related to mortgages and housing.

Treasury will collect a Quarterly Report at the end of each calendar year quarter for eligible entities that are a State or Tribal Government with a HAF allocation greater than $5 million. The Department of Hawaiian Home Lands and Tribal Governments with a HAF allocation less than $5 million will be required to submit a similar report once a year.

HAF participants will submit quarterly certifications and reports, including, among other things, details on program budget; HAF Homeowner applications approved; targeting metrics around Homeowners assisted; individual program information; and individual program design element information.

Additionally, Treasury will collect from each eligible participant an Annual Report once a year that will provide Treasury with high-level information on how the HAF participant is performing relative to their forecasted goals noted in their HAF Grantee Plan.

Treasury is requesting emergency processing to add compliance reporting (i.e., Quarterly Report and Annual Report) this collection of information as provided under 5 CFR 1320.13. Treasury cannot reasonably comply with normal clearance procedures because Treasury will need to provide the Guidance on Participant Compliance and Reporting Responsibilities to HAF participants along with the Portal launch date and provide a high degree of certainty that it will not change, so that recipients can gather the necessary information and build their own tools/processes to comply. Additionally, delays due to insufficient guidance will more than likely impact established timelines for HAF participants to report on current quarter compliance and delay future quarter compliance. Delays in quarterly reporting will reduce Treasury's insight on current HAF participant compliance issues.

Form: Quarterly Compliance Reports.

Affected Public: State and tribal governments with allocations over $5 million dollars.

Estimated Number of Respondents: 67.

Frequency of Response: Quarterly, for the duration of the program, final report January 2027.

Estimated Total Number of Annual Responses: 268.

Estimated Time per Response: 4 hours.

Estimated Total Annual Burden Hours: 1,072 hours.

Form: Quarterly Compliance Reports.

Affected Public: Department of Hawaiian Home Lands and tribal governments with allocations less than $5 million dollars.

Estimated Number of Respondents: 584.

Frequency of Response: Annually.

Estimated Total Number of Annual Responses: 584.

Estimated Time per Response: 4 hours.

Estimated Total Annual Burden Hours: 2,336 hours.

Form: Annual Reports.

Affected Public: States, Department of Hawaiian Home Lands and tribal governments.

Estimated Number of Respondents: 651.

Frequency of Response: Annual.

Estimated Total Number of Annual Responses: 651.

Estimated Time per Response: 2 hours.

Estimated Total Annual Burden Hours: 1,302 hours.

Authority: 44 U.S.C. 3501 et seq.

Molly Stasko,
Treasury PRA Clearance Officer.

[FR Doc. 2022-06705 Filed 3-29-22; 8:45 am]

BILLING CODE 4810-AK-P